NATIONAL FOUNDATION ON THE ARTS AND THE HUMANITIES

Institute of Museum and Library Services

Submission for OMB review, Comment Request, Proposed Collection: 2022-2024 IMLS Native American Library Services Basic Grants Program Performance Report Form

AGENCY: Institute of Museum and Library Services, National Foundation of the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the performance report form for the agency's non-competitive Native American Library Services Basic Grants program. A copy of the proposed information collection request can be obtained by contacting the individual listed below in the FOR FURTHER INFORMATION CONTACT section of this Notice.

DATES: Written comments must be submitted to the office listed in the ADDRESSES section below on or before February 27, 2022.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particular interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Connie Bodner, Ph.D., Director, Office of Grants Policy and Management, Institute of Museum and Library Services, 955 L'Enfant Plaza North SW, Suite 4000, Washington, DC 20024-2135. Dr. Bodner can be reached by telephone at 202-653-4636, or by email at cbodner@imls.gov. Office hours are from 8:30 a.m. to 5 p.m., E.T., Monday through Friday, except Federal holidays. Persons who are deaf or hard of hearing (TTY users) can contact IMLS at 202-207-7858 via 711 for TTY-Based Telecommunications Relay Service.

SUPPLEMENTARY INFORMATION: The Institute of Museum and Library Services (IMLS) is the primary source of federal support for the nation's libraries and museums. We advance, support, and empower America's museums, libraries, and related organizations through grant making, research, and policy development. To learn more, visit www.imls.gov.

Current Actions: The purpose of this collection is to facilitate the administration of IMLS's non-competitive Native American Library Services Basic Grants program by creating a record of the IMLS-funded activities, results, and accomplishments at annual intervals throughout the grant period and at the conclusion of each award, and assessments of performance measurement. IMLS uses this information to monitor individual grants report to Congress and the Office of Management and Budget about the agency's progress in addressing its strategic goals, and to improve the grant program. This action is to renew the performance report form for the next three years.

The 60-Day Notice was published in the Federal Register on January 8, 2021 (86 FR 1539). No comments were received.

Agency: Institute of Museum and Library Services.

Title of Collection: 2022-2024 IMLS Native American Library Services Basic Grants Program Performance Report Form.

OMB Control Number: 3137-0098.

Agency Number: 3137.

Affected Public: Native American Library Services Basic Grants awardees.

Total Estimated Number of Annual Responses: 180.

Frequency of Response: Once per year.

Average Hours per Response: 2.

Total Estimated Number of Annual Burden Hours: 360.

Total Annualized Capital/Startup Costs: n/a.

Total Annual Cost Burden: $11,001.60.

Total Annual Federal Costs: $7,846.20.

Dated: January 25, 2022.
Suzanne Mbollo,
Grants Management Specialist, Institute of Museum and Library Services.

[FR Doc. 2022-01718 Filed 1-27-22; 8:45 am]

BILLING CODE 7036-01-P